DEPARTMENT OF VETERANS AFFAIRS

Genomic Medicine Program Advisory Committee, Notice of Meeting

The Department of Veterans Affairs (VA) gives notice under Public Law 92-463 (Federal Advisory Committee Act) that the Genomic Medicine Program Advisory Committee will meet on October 16, 2012, at the American Association of Airport Executives Conference Center, 601 Madison Street, Alexandria, Virginia. The meeting will convene at 9 a.m. and end at 5 p.m. The meeting is open to the public.

The purpose of the Committee is to provide advice and make recommendations to the Secretary of Veterans Affairs on using genetic information to optimize medical care of Veterans and to enhance development of tests and treatments for diseases particularly relevant to Veterans.

The Committee will receive program updates and will be asked to continue to provide insight into optimal ways for VA to incorporate genomic information into its health care program while applying appropriate ethical oversight and protecting the privacy of Veterans. The meeting focus will be on exploring computational frameworks and infrastructure for large-scale genomic data and the associated challenges, and a continued discussion of the incorporation of genomic data, particularly whole genome data, into health care and clinical decision-making. The meeting will also receive an update on the status of the ongoing Million Veteran Program.

Members of the public may provide statements (limited to 5 minutes each) during the period reserved for public comments. They may also submit, at the time of the meeting, a 1-2 page summary of their comments for inclusion in the official meeting record. Any member of the public seeking additional information should contact Dr. Sumitra Muralidhar, Designated Federal Officer, at (202) 443-5679 or by email at sumitra.muralidhar@va.gov.

By Direction of the Secretary.
Dated: September 18, 2012.
Vivian Drake,
Committee Management Officer.

[FR Doc. 2012-23430 Filed 9-21-12; 8:45 am]

BILLING CODE 8320-01-P